NUCLEAR REGULATORY COMMISSION

[Docket No. 40-3392; NRC-2017-0143]

Honeywell, International, Inc.; Metropolis Works Uranium Conversion Facility

AGENCY: Nuclear Regulatory Commission.

ACTION: Draft environmental assessment and draft finding of no significant impact; request for comments.

SUMMARY: The U.S. Nuclear Regulatory Commission (NRC) is issuing for public comment a draft environmental assessment (EA) and draft finding of no significant impact (FONSI) for the proposed renewal of NRC source materials license SUB-526 for Honeywell, International, Inc.'s Metropolis Works uranium conversion facility. The draft EA, “Draft Environmental Assessment for the Proposed Renewal of Source Materials License SUB-526, Metropolis Works Uranium Conversion Facility (Massac County, Illinois),” documents the NRC staff's environmental review of the license renewal application.

DATES: Comments must be filed no later than November 30, 2018. Comments received after this date will be considered, if it is practical to do so, but the Commission is able to ensure consideration only for comments received on or before this date.

ADDRESSES: You may submit comments by any of the following methods:

• Federal Rulemaking Website: Go to http://www.regulations.gov and search for Docket ID NRC-2017-0143. Address questions about Docket IDs in Regulations.gov to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

• Email comments to: Honeywell-MTW-EA@nrc.gov.

For additional direction on obtaining information and submitting comments, see “Obtaining Information and Submitting Comments” in the SUPPLEMENTARY INFORMATION section of this document.

FOR FURTHER INFORMATION CONTACT: Christine Pineda, Office of Nuclear Material Safety and Safeguards; telephone: 301-415-6789; email: Christine.Pineda@nrc.gov; U.S. Nuclear Regulatory Commission, Washington, DC 20555-0001.

SUPPLEMENTARY INFORMATION:

I. Obtaining Information and Submitting Comments

A. Obtaining Information

Please refer to Docket NRC-2017-0143 when contacting the NRC about the availability of information for this action. You may obtain publicly available information related to this action by any of the following methods:

• Federal Rulemaking Website: Go to http://www.regulations.gov and search for Docket ID NRC-2017-0143.

• NRC's Agencywide Documents Access and Management System (ADAMS): You may obtain publicly available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0143 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Introduction

The NRC is considering a request for the renewal of Honeywell International, Inc.'s (Honeywell's) source materials license SUB-526, which authorizes Honeywell to operate a uranium hexafluoride processing (or uranium conversion) plant at the Metropolis Works Facility, located near Metropolis, in Massac County, Illinois. The facility was constructed in 1958, and uranium hexafluoride was first produced for several years beginning in 1959 for the U.S. Government. In 1968, the facility began producing uranium hexafluoride for commercial purposes.

In accordance with the NRC's regulations in part 51 of title 10 of the Code of Federal Regulations (10 CFR), “Environmental Protection Regulations for Domestic Licensing and Related Regulatory Functions,” that implement the National Environmental Policy Act of 1969, as amended (NEPA) (42 U.S.C. 4321 et seq.), the NRC staff has prepared a draft EA documenting its environmental review of the license renewal application (ADAMS Accession Nos. ML17048A243, ML17048A244, and ML18029A119). Based on the environmental review, the NRC has made a preliminary determination that the proposed action will not significantly affect the quality of the human environment and that a FONSI is therefore appropriate.

By this notice, the NRC is requesting public comment on the draft FONSI and supporting draft EA.

III. Summary of Draft Environmental Assessment

The draft EA is publicly available in ADAMS using ADAMS Accession No. ML18283B378, or at this link: https://www.nrc.gov/docs/ML1828/ML18283B378.pdf. A summary description of the proposed action and expected environmental impacts is provided below.

Description of the Proposed Action

The proposed Federal action is approval of Honeywell's license renewal request, which if granted would allow Honeywell to continue conversion of uranium ore concentrates, also known as yellowcake, to uranium hexafluoride. The proposed action analyzed in the draft EA accounts for a renewed license term of 40 years, which is the term Honeywell has requested. The proposed action and proposed license conditions, would allow Honeywell to continue to receive, possess, store, use, and ship source material. Honeywell would continue the conversion of uranium ore concentrates to uranium hexafluoride at an authorized capacity of 15,000 metric tons (16,535 tons). Honeywell would continue to ship the uranium hexafluoride product to enrichment facilities for processing into enriched uranium.

Environmental Impacts of the Proposed Action

In the draft EA, the NRC staff assessed the potential environmental impacts from the proposed license renewal associated with the following resource areas: Land use; geology and soils; water resources; ecological resources; cultural resources; air quality; socioeconomics; environmental justice; scenic and visual resources; public and occupational health; transportation; and waste management. The NRC staff also considered the cumulative impacts from past, present, and reasonably foreseeable future actions when combined with the proposed action.

The NRC staff determined that continued Honeywell operations would not result in significant environmental impacts, as described in the EA. The staff concluded that approval of the proposed action would not result in a significant increase in short-term or long-term radiological risk to public health or the environment. Furthermore, the NRC staff found that the incremental impacts from the proposed action, when added to the impacts of other past, present, and reasonably foreseeable future actions, would not contribute significantly to cumulative environmental impacts.

Environmental Impacts of the Alternatives to the Proposed Action

As one alternative to the proposed action, the NRC staff considered denial of Honeywell's license renewal request (i.e., the “no-action” alternative). Under the no-action alternative, Honeywell would need to stop operations permanently and submit a decommissioning plan. Under this alternative, Honeywell would need to submit a decommissioning plan for NRC review and approval. This would entail an environmental review to assess the potential impacts associated with the proposed decommissioning action. The NRC determined for this EA that the potential environmental impacts of the no-action alternative (prior to decommissioning) would not be significant.

As another alternative, the NRC considered approval of Honeywell's renewal request, but for a duration of less than 40 years (the “reduced duration alternative”). Honeywell would continue operating for a period of less than 40 years, resulting in potential impacts that would be similar to or less than the impacts of the proposed action.

IV. Draft Finding of No Significant Impact

In accordance with NEPA and 10 CFR part 51, the NRC staff has conducted an environmental review of Honeywell's request to renew NRC source materials license SUB-526 to allow Honeywell to continue its uranium conversion operations. Based on its environmental review of the proposed action, as documented in the draft EA, the NRC staff preliminarily determined that granting the requested license renewal would not significantly affect the quality of the human environment. Therefore, the NRC staff makes its preliminary determination, pursuant to 10 CFR 51.31, that the preparation of an environmental impact statement (EIS) is not required for the proposed action and a FONSI is appropriate.

The draft FONSI and supporting draft EA are a preliminary analysis of the environmental impacts of the proposed action and its alternatives. Based on comments received on the draft FONSI and draft EA, the staff may publish a final FONSI and final EA, or instead may find that preparation of an EIS is warranted should significant impacts resulting from the proposed action be identified. Should an EIS be warranted, a Notice of Intent to prepare the EIS will be published in the Federal Register.

Pursuant to 10 CFR 51.33(a), the NRC staff is making the draft FONSI and draft EA available for public review and comment.

Dated at Rockville, Maryland, this 25th day of October 2018.
For the Nuclear Regulatory Commission.
Brian W. Smith,
Acting Director, Division of Fuel Cycle Safety, Safeguards, and Environmental Review, Office of Nuclear Material Safety and Safeguards.

[FR Doc. 2018-23781 Filed 10-30-18; 8:45 am]

BILLING CODE 7590-01-P